DEPARTMENT OF LABOR

Employment and Training Administration

[TA-W-52,548]

Ashland Chemicals, Philips Semiconductors Location, San Antonio, Texas; Notice of Termination of Investigation

Pursuant to section 221 of the Trade Act of 1974, an investigation was initiated on August 13, 2003 in response to a worker petition which was filed on behalf of workers at Ashland Chemicals, Philips Semiconductors location, San Antonio, Texas.

The petitioner has requested that the petition be withdrawn. Consequently, further investigation in this case would serve no purpose, and the investigation has been terminated.

Signed in Washington, DC this 29th day of August 2003.
Linda G. Poole,
Certifying Officer, Division of Trade Adjustment Assistance.

[FR Doc. 03-23706 Filed 9-16-03; 8:45 am]

BILLING CODE 4510-30-P